FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011689-004.

Title: ZIM/CSCL Space Charter Agreement.

Parties: Zim Israel Navigation Co., Ltd., China Shipping Container Lines Co. Ltd.

Synopsis: The amendment discontinues the chartering of space on several strings and changes the space allocations on the remaining strings.

Agreement No.: 011841-001.

Title: Lykes/Libra Slot Charter Agreement.

Parties: Companhia Libra de Navegacao, Lykes Lines Limited, LLC.

Synopsis: The subject agreement modification deletes from Article 5.1(a)(ii) the restrictions on the use of space by Libra to move cargo to/from ports in the Dominican Republic and Venezuela. Consequently, these countries are being added to the geographic scope. The modification also clarifies that the agreement is intended to cover the trade between the U.S. and Mexico. The parties request expedited review.

Agreement No.: 011848.

Title: WWL/K-Line Transatlantic Space Charter Agreement.

Parties: Wallenius Wilhelmsen Lines AS (“WWL”), Kawasaki Kisen Kaisha, Ltd. (“K-Line”).

Synopsis: The proposed agreement would authorize WWL to take space on K-Line's roll-on, roll-off vessels operating between the Atlantic Coast of the United States and ports in Europe (including the United Kingdom and Scandinavia). The agreement also allows for a limited range of cooperative activities between the parties related to the space chartering.

Agreement No.: 200940-001.

Title: Broward County Tecmarine Marine Terminal Agreement.

Parties: Broward County, Tecmarine Lines, Inc.

Synopsis: The agreement amendment terminates the agreement effective April 3, 2003.

By Order of the Federal Maritime Commission.
Dated: April 4, 2003.
Bryant L. VanBrakle,
Secretary.

[FR Doc. 03-8681 Filed 4-8-03; 8:45 am]

BILLING CODE 6730-01-P